DEPARTMENT OF ENERGY

Federal Energy Regulatory Commission

[Docket No. RP98-430-001]

Transcontinental Gas Pipe Line Corporation; Notice of Proposed Changes in FERC Gas Tariff

June 21, 2001.

Take notice that on June 15, 2001, Transcontinental Gas Pipe Line Corporation (Transco) tendered for filing as part of its FERC Gas Tariff, Third Revised Volume No. 1, certain new and revised tariff sheets enumerated in Appendix A attached to the filing. The proposed effective date of such tariff sheets is July 15, 2001.

Transco states that the purpose of the instant filing is to submit tariff sheets setting forth Transco's revised interconnect policy and to eliminate any references in Transco's tariff to proposed Rate Schedules DLS and DLS-R, all in compliance with the Commission's May 17, 2001 order in this proceeding. Transco states that the revised interconnect policy sets forth the conditions applicable to the construction of new receipt and delivery interconnect facilities on Transco's pipeline system, and that such conditions are in compliance with the May 17 order and the Commission's new interconnect policy.

Transco states that it will serve copies of the instant filing on its affected customers and interested State Commissions.

Any person desiring to protest said filing should file a protest with the Federal Energy Regulatory Commission, 888 First Street, NE., Washington, DC 20426, in accordance with Section 385.211 of the commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-16058 Filed 6-26-01; 8:45 am]

BILLING CODE 6717-01-M